DEPARTMENT OF THE INTERIOR

Bureau of Land Management

[ES-030-08-1320-EL; WVES-50560; WVES-50556]

Notice of Availability of the East Lynn Lake Coal Lease Draft Land Use Analysis and Draft Environmental Impact Statement and Notice of Hearing, Wayne County, West Virginia

AGENCY: Bureau of Land Management, Interior.

ACTION: Notice of Availability.

SUMMARY: In accordance with the National Environmental Policy Act of 1969 (NEPA) and the Federal Land Policy and Management Act of 1976 (FLPMA), the Bureau of Land Management (BLM) and its cooperating agencies have prepared a Draft Land Use Analysis and Draft Environmental Impact Statement (DLUA/DEIS) to analyze the potential impacts of two Federal Coal Lease By Applications (LBAs), WVES-50556 and WVES-50560, totaling 13,089.55 acres at the U.S. Army Corps of Engineers' (USACE) East Lynn Lake Project in Wayne County, West Virginia. By this notice, the BLM announces the beginning of a 90-day public review and comment period and notice of a public hearing for the DLUA/DEIS, Maximum Economic Recovery (MER), and Fair Market Value (FMV) pursuant to the 43 Code of Federal Regulations (CFR) 3425.4. The public is invited to review and comment on the DLUA/DEIS, MER, and FMV.

DATES: Comments will be accepted for 90 days following the date that the Environmental Protection Agency (EPA) publishes its Notice of Availability for this DLUA/DEIS in the Federal Register. The BLM will hold the public hearing at 7 p.m. EDT, on July 31, 2008, at the Town Hall, 1300 Norfolk Avenue, Wayne, West Virginia. The BLM will announce this public hearing as well as any future meetings or hearings and any other public involvement activities at least 15 days in advance through public notices, media news releases, and/or mailings.

ADDRESSES: You may submit comments by any of the following methods:

• E-mail: EastLynnLakeComments@blm.gov.

• Mail: BLM-ES Milwaukee Field Office, Attn: Chris Carusona, 626 E. Wisconsin Ave., Suite 200, Milwaukee, WI 53202.

• Facsimile: 414-297-4409, Attn: Chris Carusona.

FOR FURTHER INFORMATION CONTACT: Chris Carusona, Planning and Environmental Coordinator, at 414-297-4463, (Chris_Carusona@blm.gov), or at the location listed in the ADDRESSES section.

SUPPLEMENTARY INFORMATION: The BLM is considering issuing two coal leases as a result of applications made by Argus Energy WV, LLC (Argus) and Rockspring Development, Inc. (Rockspring) to lease the Federal coal in the East Lynn Lake Project area in Wayne County, West Virginia. Argus submitted a coal LBA (WVES-50556) to BLM for 7,639.63 acres bordering a portion of the southern shore of East Lynn Lake and Rockspring submitted a coal LBA (WVES-50560) for 5,449.92 acres that borders a portion of the north shore of the lake. East Lynn Lake is located approximately 25 miles south of Huntington, West Virginia, and is managed by the USACE for flood control, recreation, and wildlife. The DLUA/DEIS analyzes and discloses to the public direct, indirect, and cumulative environmental impacts of issuing Federal coal leases in the East Lynn Lake Project area. A copy of the DLUA/DEIS will be sent to affected Federal, State, and local government agencies; persons and entities identified as potentially being affected by a decision to lease the Federal coal in this area; and persons who indicated to the BLM that they wanted to receive a copy of the DLUA/DEIS. The purpose of the public hearing is to solicit comments on the DLUA/DEIS, on the proposed competitive lease sale and the MER and FMV of the Federal coal from the Federal coal tracts near East Lynn Lake.

Argus and Rockspring applied for the tracts in accordance with 43 CFR 3425 in order to extend the life of their existing underground mines they operate on adjacent private land. Argus estimated that the tracts in their application include 55 million tons of in-place Federal coal and Rockspring estimated that the tracts they applied for include 40.98 million tons of in-place Federal coal. The coal seam proposed to be mined is the Coalburg/Winifrede seam.

The State of West Virginia does not use the Public Land Rectangular Survey System to legally describe land tracts within the State, but instead utilizes metes and bounds property descriptions. Consequently, to avoid numerous pages of lengthy legal descriptions, the Federal coal reserves encompassed by the LBAs are described below by referencing the USACE mineral-tract numbers. It should be pointed out that referencing a mineral-tract number in the listing below does not necessarily mean the entire mineral tract is under application. More detailed property descriptions are available in the DLUA/DEIS.

Argus, LBA WVES-50556

Mineral Tract Numbers: 177M-14; 177M-12; 177M-11; 177M-1; 745M; 746M; 808; 840M; 843M; 846M; 1140M; 1140; 1301; 1313M; 1330M; 1717M; 1718M; 1810M; 1811M; 1813M; 2020M; 2321M; 2430M; 2431M; and 2737.

Approximately 7,639.63 acres in Wayne County, West Virginia.

Rockspring, LBA WVES-50560

Mineral Tract Numbers: 174M; 177M-2; 177M-1; 184M; 376ME-2; 375M; 376ME-1; 377M; 378M; 380M; 381M; 382M; 384M; 386M; 390ME-1; 395M; 430M; 517A; 517B; 545M; 547M; 548M; 550M; 553M; 554M; 556M; 745M; 1450M; 1451M; 1452M; 1453M; 1717M; and 1718M.

Approximately 5,449.92 acres in Wayne County, West Virginia.

The Notice of Intent (NOI) to prepare a LUA/EIS for Federal coal leasing administered by the BLM in Wayne County, West Virginia, was published in the Federal Register on July 14, 2005 (70 FR 40723-40725). The scope of the analysis was to include an assessment of the direct, indirect, and cumulative environmental, cultural, social science, and economic impacts associated with commercial leasing of the Federal coal under a range of alternatives.

The Office of Surface Mining Reclamation and Enforcement (OSM), the USACE, and the West Virginia Division of Natural Resources (DNR) are cooperating agencies in the preparation of the DLUA/DEIS.

Argus proposes to mine the Federal coal in the lease application area by underground methods extending from two of their existing underground mines located on private land to the south of the application area. Rockspring would similarly access their application area from their existing underground mine located on private lands north of their application area. No mining would occur beneath East Lynn Lake and no surface mining would take place. The existing mines for Argus and Rockspring have approved mining and reclamation plans from the West Virginia Department of Environmental Quality (DEQ) and an approved air quality permit from the Air Quality Division of the West Virginia DEQ.

It is reasonable to expect that Rockspring may wish to conduct exploratory drilling on their area of interest. Both companies may need to drill additional holes for mine plan purposes if leases were to be issued and mine plans approved.

The BLM is authorized to lease Federal coal, under the Mineral Leasing Act (43 CFR 3480.0-5(a)(25)) and the Water Resource and Development Act of 1999, for Federally owned coal at East Lynn Lake. The OSM, in cooperation with the State of West Virginia, issues mine permits under the Surface Mining Control and Reclamation Act.

The DLUA/DEIS analyzes leasing the East Lynn Lake Federal coal tracts as the Proposed Action and is the agency's preferred action. Under the proposed action, a competitive sale would be held and two leases issued for Federal coal in the tracts under applications by Argus and Rockspring. The DLUA/DEIS also analyzes the alternative of rejecting the applications to lease Federal coal as the No Action Alternative.

Requests to be included on the mailing list for this project and for copies of the DLUA/DEIS, paper copy or CD-ROM, or notification of the comment period or hearing date, or both, may be sent in writing, by facsimile, or electronically to the addresses previously stated at the beginning of this notice. The BLM asks that those submitting comments on the DLUA/DEIS make them as specific as possible with reference to page numbers and chapters of the document. Comments that contain only opinions or preferences will not receive a formal response; however, they will be considered and included as part of the BLM decision-making process.

Before including your address, phone number, e-mail address, or other personal identifying information in your comment, you should be aware that your entire comment including your personal identifying information may be made publicly available at any time. While you can ask us in your comment to withhold your personal identifying information from public review, we cannot guarantee that we will be able to do so.

Copies of the DLUA/DEIS are available for public inspection at the Milwaukee Field Office address listed above, during regular business hours (7:30 a.m. through 4:30 p.m., CDT), Monday through Friday, with the exception of Federal holidays. The DLUA/DEIS is available on the following Web site: http://www.es.blm.gov/EastLynnLake/index.php.

Dated: February 14, 2008.
Juan Palma,
State Director, Eastern States.

Editorial Note: This document was received in the Office of the Federal Register on June 11, 2008.

[FR Doc. E8-13457 Filed 6-13-08; 8:45 am]

BILLING CODE 4310-GJ-P